DEPARTMENT OF ENERGY

Federal Energy Regulatory Commission

Combined Notice of Filings #2

Take notice that the Commission received the following electric corporate filings:

Docket Numbers: EC25-85-000.

Applicants: Icetec Energy Services, Inc., Icetec.com, Inc., Veolia Energy North America Holdings, Inc.

Description: Application for Authorization Under Section 203 of the Federal Power Act of Icetec.com, Inc.

Filed Date: 5/2/25.

Accession Number: 20250502-5229.

Comment Date: 5 p.m. ET 5/23/25.

Take notice that the Commission received the following electric rate filings:

Docket Numbers: ER13-738-013; ER11-3097-017; ER10-1186-016; ER12-421-007; ER11-2731-007.

Applicants: Heritage Stoney Corners Wind Farm I, LLC, Heritage Garden Wind Farm I, LLC, DTE Energy Supply, LLC, DTE Energy Trading, Inc., DTE Electric Company.

Description: Notice of Change in Status of DTE Electric Company, et al.

Filed Date: 4/29/25.

Accession Number: 20250429-5384.

Comment Date: 5 p.m. ET 5/20/25.

Docket Numbers: ER17-256-022; ER17-242-021; ER17-243-021; ER17-245-021; ER17-652-021.

Applicants: Lightstone Marketing LLC, Waterford Power, LLC, Lawrenceburg Power, LLC, Gavin Power, LLC, Darby Power, LLC.

Description: Notice of Non-Material Change in Status of Darby Power, LLC, et al.

Filed Date: 4/30/25.

Accession Number: 20250430-5694.

Comment Date: 5 p.m. ET 5/21/25.

Docket Numbers: ER25-2151-000.

Applicants: PJM Interconnection, L.L.C.

Description: § 205(d) Rate Filing: Original GIA Service Agreement No. 7645; Project Identifier No. AC2-123/AE2-326 to be effective 4/4/2025.

Filed Date: 5/5/25.

Accession Number: 20250505-5038.

Comment Date: 5 p.m. ET 5/27/25.

Docket Numbers: ER25-2152-000.

Applicants: PJM Interconnection, L.L.C.

Description: § 205(d) Rate Filing: Original GIA, Service Agreement No. 7648; Project Identifier No. AE1-173 to be effective 4/2/2025.

Filed Date: 5/5/25.

Accession Number: 20250505-5039.

Comment Date: 5 p.m. ET 5/27/25.

Docket Numbers: ER25-2153-000.

Applicants: PJM Interconnection, L.L.C.

Description: § 205(d) Rate Filing: Original GIA, Service Agreement No. 7655; AG1-152 to be effective 4/3/2025.

Filed Date: 5/5/25.

Accession Number: 20250505-5067.

Comment Date: 5 p.m. ET 5/27/25.

Docket Numbers: ER25-2154-000.

Applicants: PJM Interconnection, L.L.C.

Description: § 205(d) Rate Filing: Amendment to Service Agreement No. 5849; Queue Position No. AE2-131 to be effective 7/5/2025.

Filed Date: 5/5/25.

Accession Number: 20250505-5069.

Comment Date: 5 p.m. ET 5/27/25.

Docket Numbers: ER25-2155-000.

Applicants: PJM Interconnection, L.L.C.

Description: § 205(d) Rate Filing: Amendment to GIA, SA No. 7403; PJM Project Identifier No. AF2-229 to be effective 7/5/2025.

Filed Date: 5/5/25.

Accession Number: 20250505-5105.

Comment Date: 5 p.m. ET 5/27/25.

Docket Numbers: ER25-2156-000.

Applicants: Cascade BESS LLC.

Description: § 205(d) Rate Filing: Notice of Succession to be effective 4/30/2025.

Filed Date: 5/5/25.

Accession Number: 20250505-5180.

Comment Date: 5 p.m. ET 5/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 5, 2025.
Carlos D. Clay,
Deputy Secretary.

[FR Doc. 2025-08224 Filed 5-9-25; 8:45 am]

BILLING CODE 6717-01-P